POSTAL SERVICE

Product Change—Priority Mail and USPS Ground Advantage Negotiated Service Agreements; Priority Mail Negotiated Service Agreements

AGENCY: Postal Service.

ACTION: Notice.

SUMMARY: The Postal Service gives notice of filing a request with the Postal Regulatory Commission to add a domestic shipping services contract to the list of Negotiated Service Agreements in the Mail Classification Schedule's Competitive Products List.

DATES: Date of required notice: August 20, 2025.

FOR FURTHER INFORMATION CONTACT: Sean C. Robinson, 202-268-8405.

SUPPLEMENTARY INFORMATION: The United States Postal Service hereby gives notice that, pursuant to 39 U.S.C. 3642 and 3632(b)(3), it filed with the Postal Regulatory Commission the following requests:

Date filed with Postal Regulatory Commission | Negotiated service agreement product category and number | MC Docket No. | K Docket No.
08/15/25 | PM-GA 810 | MC2025-1615 | K2025-1607
08/15/25 | PM 918 | MC2025-1618 | K2025-1610
08/15/25 | PM-GA 813 | MC2025-1619 | K2025-1611
08/15/25 | PM-GA 814 | MC2025-1620 | K2025-1612
08/15/25 | PM-GA 815 | MC2025-1621 | K2025-1613

Documents are available at www.prc.gov.

Sean C. Robinson,
Attorney, Corporate and Postal Business Law.

[FR Doc. 2025-15841 Filed 8-19-25; 8:45 am]

BILLING CODE 7710-12-P